ENVIRONMENTAL PROTECTION AGENCY

[FRL-6957-4]

Notice of Proposed Administrative Order on Consent Under Section 122(h) of the Comprehensive Environmental Response, Compensation and Liability Act (CERCLA), as Amended, 42 U.S.C. 9622, Lehigh Portland Cement Company Superfund Site, Mason City, Iowa, Docket No. CERCLA-07-2001-0006

AGENCY: Environmental Protection Agency.

ACTION: Notice of proposed administrative order on consent, Lehigh Portland Cement Company superfund site, Mason City, Iowa.

SUMMARY: Notice is hereby given that a proposed administrative order on consent regarding Lehigh Portland Cement Company was signed by the United States Environmental Protection Agency (EPA) on February 6, 2001, and approved by the United States Department of Justice (DOJ) on February 19, 2001.

DATES: EPA will receive, for a period until on or before April 23, 2001, written comments relating to the proposed administrative order on consent.

ADDRESSES: Comments should be addressed to Barbara L. Peterson, Senior Assistant Regional Counsel, United States Environmental Protection Agency, Region VII, 901 N. 5th Street, Kansas City, Kansas 66101 and should refer to the Lehigh Portland Cement Company Superfund Site Administrative Order on Consent.

The proposed consent order may be examined or obtained in person or by mail at the office of the United States Environmental Protection Agency, Region VII, 901 N. 5th Street, Kansas City, KS 66101, (913) 551-7277.

SUPPLEMENTARY INFORMATION: The proposed consent order concerns the Lehigh Portland Cement Company Superfund Site located in Mason City, Cerro Gordo County, Iowa. The consent order resolves the liability of Lehigh under Section 107(a) of CERCLA, 42 U.S.C. 9607(a), for both EPA response costs and natural resource damages relating to the site. Under the Administrative Order, Lehigh will pay the United States $640,000 in settlement of EPA's past response costs and $35,000 in settlement of natural resource damages claims.

Dated: March 7, 2001.
William W. Rice,
Acting Regional Administrator, United States Environmental Protection Agency, Region VII.

[FR Doc. 01-7284 Filed 3-22-01; 8:45 am]

BILLING CODE 6560-50-M